DEPARTMENT OF AGRICULTURE

Farm Service Agency

Information Collection Request; Transfer of Farm Records Between Counties

AGENCY: Farm Service Agency, USDA.

ACTION: Notice; request for comments.

SUMMARY: In accordance with the Paperwork Reduction Act of 1995, the Farm Service Agency (FSA) is requesting comments from interested individuals and organizations on an extension of a currently approved information collection associated with transferring of farm records from one FSA county office to another.

DATES: We will consider comments that we receive by August 14, 2017.

ADDRESSES: We invite you to submit comments on this Notice. In your comment, include volume, date, and page number of this issue of the Federal Register. You may submit comments by any of the following methods:

• Federal eRulemaking Portal: Go to: www.regulations.gov. Follow the online instructions for submitting comments.

• Mail, hand delivery, or courier: Melonie Sullivan, Agricultural Program Specialist, Program Policy Branch, 1400 Independence Avenue SW., STOP 0512, Washington, DC 20250-0512.

You may also send comments to the Desk Officer for Agriculture, Office of Information and Regulatory Affairs, Office of Management and Budget, Washington, DC 20503.

Comments will be available for inspection online at http://www.regulations.gov. Copies of the information collection and any public comments may be requested by contacting Melonie Sullivan at the above address.

FOR FURTHER INFORMATION CONTACT: Melonie Sullivan, (202) 690-1003. Persons with disabilities or who require alternative means for communication should contact the USDA Target Center at (202) 720-2600 (voice).

SUPPLEMENTARY INFORMATION: Title: Transfer of Farm Records between Counties.

OMB Control Number: 0560-0253.

Type of Request: Extension.

Abstract: Farm owners or operators may request to transfer farm records between FSA county offices under certain circumstances, which may include:

• A change has occurred in the operation of the land; or

• there has been a change that would cause the receiving county office to be more accessible, including, but not limited to, the construction of a new highway, relocation of the county office building site; or

• when an FSA county office closes.

FSA County Committees from both the transferring and receiving counties must approve or disapprove all proposed farm record transfers. If the FSA County Committee is not able to approve the request based on one of the criteria in 7 CFR 718.8(e), then the State Committee would need to submit an exception request to the Deputy Administrator for Farm Programs.

For the following estimated total annual burden on respondents, the formula used to calculate the total burden hours is the estimated average time per response multiplied by the estimated total annual responses.

The estimate of the average time to respond includes the estimate for the time to collect and provide the information, including travel time to the local FSA county office. Public reporting burden for collecting information under this notice is estimated to average 10 minutes per response (0.167 hours), including the time for reviewing instructions, searching existing data sources, gathering and maintaining the data needed, and completing and reviewing the collection of information. The average travel time, which is included in the total annual burden, is estimated to be 1 hour per respondent. Therefore, the total estimate of the average time to respond is 1.167 hours.

Type of Respondents: Owners and operators.

Estimated Number of Respondents: 21,240.

Estimated Average Number of Responses per Respondent: 1.

Estimated Total Annual Responses: 21,240.

Estimated Average Time per Response: 1.167.

Estimated Total Annual Burden on Respondents: 24,780 hours.

We are requesting comments on all aspects of this information to help us to:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information from those who are to respond, including the use of appropriate automated, electronic, mechanical, or other technological collection techniques or other forms of information technology.

All comments received in response to this notice, including names and addresses when provided, will be a matter of public record. Comments will be summarized and included in the submission for Office of Management and Budget Approval.

Chris P. Beyerhelm,
Acting Administrator, Farm Service Agency.

[FR Doc. 2017-12221 Filed 6-12-17; 8:45 am]

BILLING CODE 3410-05-P